DEPARTMENT OF HEALTH AND HUMAN SERVICES

Centers for Disease Control and Prevention

[60Day-10-10AK)

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality*, utility, and clarity of the information to be collected; and (d) ways to minimize the burden of the collection of information on respondents, including through the use of automated collection techniques or other forms of information technology. Written comments should be received within 60 days of this notice.

Proposed Project

National Notifiable Condition Messaging Support Strategy Questionnaire—New—National Center for Public Health Informatics (NCPHI), Centers for Disease Control and Prevention (CDC).

Background and Brief Description

The Public Health Services Act (42 U.S.C. 241) authorizes CDC to disseminate nationally notifiable condition information. CDC's Morbidity and Morality Weekly Report publishes incidence and prevalence tables for nationally notifiable conditions reported through the National Electronic Disease Surveillance System (NEDSS) and other surveillance data sources to the National Notifiable Diseases Surveillance System (NNDSS).

NEDSS (OMB 0920-0728) is an internet-based infrastructure for public health surveillance data exchange that uses specific Public Health Information Network (PHIN) and NEDSS electronic data and information standards to advance the development of efficient, integrated, and interoperable surveillance systems at federal, state and local levels. CDC's NCPHI is responsible for establishing and managing the national reporting system of epidemiologic data for notifiable conditions (diseases) via NEDSS.

Case notification messaging for most of the nationally notifiable conditions (77 infectious conditions as of August 2009) will eventually be supported by the standard Health Level 7 (HL7) message format. The HL7 message format requires a Message Mapping Guide (MMG)—developed by the NEDSS and NNDSS programs, in collaboration with state and federal subject matter experts—to implement case notification to CDC via NEDSS. By the close of 2009, MMGs are expected to be published for seven nationally notifiable conditions. Current NEDSS resources support the development of three new MMGs per year. A jurisdiction's implementation of a MMG requires an average of three months per MMG and largely requires NCPHI's programmatic and technical expertise during this process.

The National Notifiable Condition Messaging Support Strategy Questionnaire has been developed by the NEDSS program to gather information needed for formulating a technical and project management support strategy for 57 reporting jurisdictions (i.e., 50 states, 5 territories, New York City, and Washington, DC) as they implement NEDSS messaging using Message Mapping Guides (MMG). A jurisdiction's response to the questionnaire will be used by the NEDSS implementation and management teams to assess the jurisdiction's IT system environment and capacity and help determine the project schedule and level of human and technical support needed to complete the jurisdiction's implementation of a nationally notifiable condition message. NEDSS infrastructure implementation support includes, but is not limited to: Implementing NEDSS Message Subscription Service (MSS) and NEDSS Messaging Solution (NMS) software in requesting jurisdictions; providing MSS and NMS software training and ongoing technical support; and distributing funding via the CDC Epidemiology and Laboratory Capacity cooperative agreement.

Questionnaires will be distributed to jurisdictions who initiate MMG implementation for a condition; therefore, the maximum annual frequency of responses per jurisdiction is three. The NEDSS team will request the jurisdiction to voluntarily complete the questionnaire, but a response is not a pre-requisite for support.

There is no cost to respondents other than their time to participate in the survey.

Estimate of Annualized Burden Hours
Respondents | Number of respondents | Number of responses per respondent | Average burden per response (in hours) | Total burden (in hours)
States | 50 | 3 | 40/60 | 100
Territories | 5 | 3 | 40/60 | 10
Cities | 2 | 3 | 40/60 | 4
Total |  |  |  | 114

Dated: December 1, 2009.
Maryam I. Daneshvar,
Reports Clearance Officer, Centers for Disease Control and Prevention.

[FR Doc. E9-29107 Filed 12-4-09; 8:45 am]

BILLING CODE 4163-18-P